APPALACHIAN STATES LOW-LEVEL RADIOACTIVE WASTE COMMISSION

Annual Meeting

Time and Date: 9:30 a.m.-12:30 p.m., November 9, 2007.

Place: Harrisburg Hilton and Towers, One North Second Street, Harrisburg, PA 17101.

Status: Most of the meeting will be open to the public. However, the executive session will be closed to the public.

Matters to be Considered: Portions Open to the Public: The primary purpose of this meeting is to: (1) Review the independent auditors' report of Commission's financial statements for fiscal year 2006-2007; (2) Review the Low-Level Radioactive Waste (LLRW) generation information for 2006; (3) Consider a proposal budget for fiscal year 2008-2009; (4) Review recent national developments regarding low activity and LLRW management and disposal; and (5) Provide an update on PADEP Agreement State Status with the NRC; and (6) Elect the Commission's Officers.

Portions Closed to the Public: An Executive Session, will be held to discuss a potential legal matter.

Contact Person for More Information: Richard R. Janati, Administrator of the Commission, at 717-787-2163.

Richard R. Janati,
Administrator.

[FR Doc. 07-5589 Filed 11-7-07; 8:45 am]

BILLING CODE 0000-00-P